DEPARTMENT OF TRANSPORTATION

Federal Highway Administration

Environmental Impact Statement; Lone Star Regional Rail Project, Williamson, Travis, Bastrop, Hays, Caldwell, Comal, Guadalupe, and Bexar Counties, TX

AGENCY: Federal Highway Administration (FHWA), DOT.

ACTION: Notice of intent.

SUMMARY: Pursuant to 40 CFR 1508.22 and 43 TAC § 2.5(e)(2), the Federal Highway Administration (FHWA), Texas Department of Transportation (TxDOT), and the Lone Star Rail District (LSRD) are issuing this notice to advise the public that an Environmental Impact Statement (EIS) will be prepared for a proposed transportation project to construct and operate a regional passenger rail service system along the IH-35 corridor connecting the greater Austin and San Antonio metropolitan areas. A required letter of initiation pursuant to 23 U.S.C. 139 was completed as well. As the project proponent, the LSRD intends to apply for Transportation Infrastructure Finance and Innovation Act (TIFIA) program funding and seek to retain federal funding eligibility for this proposed project. The proposed project would provide for implementation of passenger rail service within the existing Union Pacific Railroad (UPRR) corridor that extends from Williamson County to Bexar County, Texas. FHWA as the lead federal agency will coordinate closely with the Federal Railroad Administration (FRA) and the Federal Transit Administration (FTA), to perform the analyses required to evaluate reasonable alternatives for the proposed action. The EIS may include a potential alternative that would include development and operation of a new freight bypass to carry some of the existing freight rail traffic between Taylor and San Antonio to allow the addition of passenger service along the existing UPRR line.

FOR FURTHER INFORMATION CONTACT: Mr. Salvador Deocampo, District Engineer, Federal Highway Administration, Texas Division, 300 East 8th Street, Room 826, Austin, Texas 78701, Telephone 512-536-5950.

SUPPLEMENTARY INFORMATION: The LSRD (formed in 2003 with authorization of the State of Texas) is an independent and accountable public agency focused on providing regional passenger rail service. As the project proponent, the LSRD has conducted numerous planning, environmental, and alternatives analyses over the past 10 years to evaluate feasible options for development of passenger rail service along the IH-35 corridor between the metropolitan areas of Austin and San Antonio. Through these efforts, the LSRD has worked closely with the UPRR, as a major stakeholder, to evaluate operational scenarios for joint freight and passenger operations within UPRR's existing system. A potential alternative to be evaluated in the EIS includes development and operation of passenger rail service within the abandoned MoKan railroad right-of-way between Georgetown and Round Rock, and along the existing UPRR corridor between Round Rock and San Antonio. A branch route providing passenger rail service between Round Rock and Taylor along the existing UPRR corridor could also be evaluated.

A potential alternative could include development of a freight bypass to accommodate some existing freight rail traffic that could be displaced by the proposed passenger rail operations. The proposed freight rail bypass could extend from the UPRR Austin Subdivision near Taylor and follow a greenfield alignment (new location) to Seguin. From Seguin, the proposed freight rail bypass could follow existing UPRR right-of-way through the San Antonio area and terminate at Tower 105 near downtown San Antonio.

The need for the proposed project stems from the rapid growth occurring in Central and South Texas. Congestion within the IH-35 corridor has resulted in decreased mobility and travel time reliability for both travelers and freight transporters. The deficiencies of the existing transportation network, including lack of modal transportation options and limited roadway capacity, contribute to decreased regional air quality, increased crash rates, and diminished quality of life for residents living in close proximity to IH-35.

The Lone Star Regional Rail Project would provide regional passenger rail service connecting communities along the IH-35 corridor between the metropolitan areas of Austin and San Antonio. As currently envisioned, the project would span approximately 120 miles across Williamson, Travis, Bastrop, Hays, Caldwell, Comal, Guadalupe, and Bexar counties. Based upon previous studies, the purpose of the proposed project is to improve mobility, accessibility, transportation reliability, modal choice, safety, and facilitate economic development along the IH-35 corridor in Central and South Texas.

The EIS will be prepared in accordance with the National Environmental Policy Act of 1969 (NEPA), the Council on Environmental Quality (CEQ) regulations implementing NEPA, and FHWA regulations. The EIS will evaluate the reasonable alternatives and the No Action (the no-build alternative), Transportation System Management (TSM)/Transportation Demand Management (TDM), and other transit, rail, and roadway alternatives incorporated by reference from other applicable studies. Federal Surface Transportation Program-Metropolitan Mobility (STP-MM) funds were used to conduct the previous studies and are funding the current EIS.

The EIS will analyze potential direct, indirect, and cumulative impacts from the proposed construction and operation of the reasonable alternatives considered including, but not limited to the following: regional transportation system impacts (including all modes and effects on congestion); air quality impacts; noise and vibration impacts (in accordance with FRA/FTA guidelines); impacts to water quality and water resources including surface and groundwater, wetlands, rivers, and streams, and floodplains; impacts to historic, archaeological, and cultural resources; impacts to threatened and endangered species and protected habitats; impacts on farm and range lands; socioeconomic impacts including environmental justice communities; impacts on land use and potential displacements; hazardous materials; and impacts to aesthetic and visual resources.

Public involvement is a critical component of the NEPA process and will occur throughout this study. Scoping letters describing the proposed action and a request for comments will be sent to federal, state, and local agencies as well as stakeholders, community groups, and citizens who previously expressed an interest in the proposed project. Agency and public scoping meetings are planned for the fall of 2014. The purpose of agency and public scoping is to identify relevant and potentially significant issues related to the Lone Star Regional Rail Project as part of the NEPA process. Scoping meetings, conducted pursuant to 23 U.S.C. 139, will provide opportunities for cooperating agencies, participating agencies, and the public to be involved in review and comment on the Draft Project Coordination Plan, defining the need and purpose for the proposed action, determining the range of reasonable alternatives to be considered in the EIS and the appropriate methodologies to be used, and the level of detail required in the analysis of alternatives. Federal agencies with jurisdiction by law or special expertise with respect to potential environmental issues (such as FRA and FTA) will be requested to act as Cooperating Agencies in accordance with 40 CFR 1501.16. Agencies and the public will be notified of the dates, times, and locations of the scoping meetings at a later date. Additional public meetings will also be held on dates to be determined at a later time. In addition to public meetings, public hearings will also be held. Public notice will be given of the times and places for the public meetings and public hearings. Because of the geographic scope of the project, public meetings and public hearings may be conducted at multiple locations. Opportunities for public participation will also be announced through mailings, notices, advertisements, and on the EIS Web page http://www.LoneStarRail.com.

To ensure that the full range of issues related to this proposed action is addressed and all significant issues are identified, comments and suggestions are invited from all interested parties. Such comments or questions concerning this proposed action should be directed to the FHWA at the address provided above.

(Catalog of Federal Domestic Assistance Program Number 20.205, Highway, Planning, and Construction. The regulations implementing Executive Order 12372 regarding intergovernmental consultation on Federal programs and activities apply to this program.)

Issued on: September 29, 2014.
Salvador Deocampo,
District Engineer.

[FR Doc. 2014-23711 Filed 10-3-14; 8:45 am]

BILLING CODE 4910-22-P